DEPARTMENT OF AGRICULTURE

Forest Service

Notice of New Fee Site; Federal Lands Recreation Enhancement Act, (Title VIII, Pub. L. 108-447)

AGENCY: Prescott National Forest, USDA Forest Service, Arizona.

ACTION: Notice of New Fee Site.

SUMMARY: The Prescott National Forest will begin charging a $150 fee for the daily rental of historic Groom Creek Schoolhouse near Prescott, Arizona. Rental of other facilities on the Prescott National Forest and other Arizona National Forests has shown that publics appreciate and enjoy the availability of historic rental facilities. Funds from the rental will be used for the continued operation and maintenance of Groom Creek Schoolhouse.

DATES: Groom Creek Schoolhouse will become available for rent April, 2007.

ADDRESSES: Forest Supervisor, Prescott National Forest, 344 S. Cortez St, Prescott, Arizona, 86303.

FOR FURTHER INFORMATION CONTACT: Doug Schmidgall, Facility Engineer, Prescott National Forest, 928-443-8177.

SUPPLEMENTARY INFORMATION: The Federal Recreation Lands Enhancement Act (Title VII, Pub. L. 108-447) directed the Secretary of Agriculture to publish a six month advance notice in the Federal Register whenever new recreation fee areas are established. The Prescott National Forest currently has three other rental facilities. These rentals are booked regularly throughout their rental season. A business analysis for the rental of Groom Creek Schoolhouse shows that people desire having this sort of recreation experience on the Prescott National Forest. A market analysis indicates that the $150 daily fee is both reasonable and acceptable for this sort of unique recreation experience. People wanting to rent Groom Creek Schoolhouse will need to do so through the National Recreation Reservation Service, at http://www.reserveusa.com or by calling 1-877-444-6777. The National Recreation Reservation Service charges a $9 fee per reservation.

Dated: November 14, 2006.
Alan M. Quan,
Forest Supervisor, Prescott National Forest.

[FR Doc. 06-9294 Filed 11-21-06; 8:45 am]

BILLING CODE 3410-11-M